DEPARTMENT OF THE INTERIOR

National Park Service

[NPS-WASO-NRNHL-11231; 2200-3200-665]

National Register of Historic Places; Notification of Pending Nominations and Related Actions

Nominations for the following properties being considered for listing or related actions in the National Register were received by the National Park Service before September 1, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by October 26, 2012. Before including your address, phone number, email address, or other personal identifying information in your comment, you should be aware that your entire comment—including your personal identifying information—may be made publicly available at any time. While you can ask us in your comment to withhold your personal identifying information from public review, we cannot guarantee that we will be able to do so.

Dated: September 6, 2012.
J. Paul Loether,
Chief, National Register of Historic Places/National Historic Landmarks Program.

ARIZONA

Cochise County

Camp Naco Historic District,

Jct. of Willson Rd. & Newell St.,

Naco, 12000853

Pima County

University Indian Ruin Archaeological Research District, 2799 N. Indian Ruins Rd., Tucson, 12000854

ARKANSAS

Benton County

Rogers Commercial Historic District, (Benton County MRA) 300 blk. S. 1st, 100 blk. S. 2nd, 200 blk. W. Walnut, & 200 blk. W. Elm Sts., Rogers, 12000855

Lawrence County

Building Number 29, (World War II Home Front Efforts in Arkansas, MPS) 162 N. Beacon Rd., Walnut Ridge, 12000856

Pulaski County

South Main Street Residential Historic District (Boundary Increase), 2006-2008, 2014 S. Scott, & 114, 116, 118 E 21st Sts., Little Rock, 12000857

Woodruff County

Gregory House, 300 S. 2nd St., Augusta, 12000858

CALIFORNIA

Los Angeles County

CA-LAN-1258, (Rock Art Sites of the Angeles National Forest, California) Address Restricted, Canyon Country, 12000861

CA-LAN-1302, (Rock Art Sites of the Angeles National Forest, California) Address Restricted, Azusa, 12000862

CA-LAN-1946, (Rock Art Sites of the Angeles National Forest, California) Address Restricted, Acton, 12000860

CA-LAN-441, (Rock Art Sites of the Angeles National Forest, California) Address Restricted, Castaic, 12000863

CA-LAN-540, (Rock Art Sites of the Angeles National Forest, California) Address Restricted, Agua Dulce, 12000859

DISTRICT OF COLUMBIA

District of Columbia

Maycroft, The, (Apartment Buildings in Washington, DC, MPS) 1474 Columbia Rd. NW., Washington, 12000864

FLORIDA

Manatee County

Palmetto Armory, 810 6th St., W., Palmetto, 12000865

Wakulla County

Mount Beasor Primitive Baptist Church, 120 Mount Beasor Rd., Sopchoppy, 12000866

HAWAII

Honolulu County

East—West Center Complex, 1601 East-West Rd., Honolulu, 12000867

KANSAS

Riley County

Walters, Daniel and Maude, House, (Late 19th and Early 20th Century Residential Resources in Manhattan, Kansas MPS) 100 S. Delaware Ave., Manhattan, 12000868

Rush County

Miller Farmstead, (Agriculture-Related Resources of Kansas) 2913 KS 4, La Crosse, 12000869

MICHIGAN

Wayne County

Campau, Jos., Historic District, Bounded by Holbrook, Pulaski, Casmere, & Lehman Sts., Hamtramck, 12000870

MINNESOTA

Itasca County

Bigfork Village Hall, (Federal Relief Construction in Minnesota MPS) 200 Main Ave., Bigfork, 12000871

McLeod County

Glencoe Grade and High School, 1107 11th St., E., Glencoe, 12000872

MISSOURI

Saline County

Fitzgibbon Hospital, 868 S. Brunswick Ave., Marshall, 12000874

St. Louis Independent city

Central High School, (St. Louis Public Schools of William B. Ittner MPS) 3616 Garrison, St. Louis (Independent City), 12000873

NEW MEXICO

Santa Fe County

Baumann, Jane and Gustave, House and Studio, 409 Camino de Las Animas, Santa Fe, 12000875

NEW YORK

Essex County

Putnam Camp, 1196 NY 73, Saint Huberts, 12000876

OREGON

Clackamas County

Roehr, Osco C., House, 128 North Shore Cir., Lake Oswego, 12000877

[FR Doc. 2012-24958 Filed 10-10-12; 8:45 am]

BILLING CODE 4312-51-P